DEPARTMENT OF TRANSPORTATION

Federal Aviation Administration

14 CFR Part 39

[Docket No. FAA-2015-3732; Directorate Identifier 2015-NE-25-AD]

RIN 2120-AA64

Airworthiness Directives; Pratt & Whitney Canada Corp. Turboprop Engines

AGENCY: Federal Aviation Administration (FAA), DOT.

ACTION: Notice of proposed rulemaking (NPRM).

SUMMARY: We propose to adopt a new airworthiness directive (AD) for certain Pratt & Whitney Canada Corp. (PWC) PT6A-60AG, -65AG, -67AF, and -67AG turboprop engines. This proposed AD was prompted by incidents of corrosion and perforation of the two-ply Cu-Be bellows in Woodward fuel control units (FCUs). This proposed AD would require removing the Woodward FCU and installing an FCU that is eligible for installation. We are proposing this AD to prevent failure of the Woodward FCU, which could lead to failure of the engine, in-flight shutdown, and loss of control of the airplane.

DATES: We must receive comments on this proposed AD by January 11, 2016.

ADDRESSES: You may send comments by any of the following methods:

• Federal eRulemaking Portal: Go to http://www.regulations.gov. Follow the instructions for submitting comments.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this proposed AD, contact Pratt & Whitney Canada Corp., 1000 Marie-Victorin, Longueuil, Quebec, Canada, J4G 1A1; phone: 800-268-8000; fax: 450-647-2888; Web site: www.pwc.ca. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2015-3732; or in person at the Docket Operations office between 9 a.m. and 5 p.m., Monday through Friday, except Federal holidays. The AD docket contains this proposed AD, the mandatory continuing airworthiness information (MCAI), the regulatory evaluation, any comments received, and other information. The address for the Docket Office (phone: 800-647-5527) is in the ADDRESSES section. Comments will be available in the AD docket shortly after receipt.

FOR FURTHER INFORMATION CONTACT: Besian Luga, Aerospace Engineer, Engine Certification Office, FAA, Engine & Propeller Directorate, 12 New England Executive Park, Burlington, MA 01803; phone: 781-238-7750; fax: 781-238-7199; email: besian.luga@faa.gov.

SUPPLEMENTARY INFORMATION:

Comments Invited

We invite you to send any written relevant data, views, or arguments about this proposed AD. Send your comments to an address listed under the ADDRESSES section. Include “Docket No. FAA-2015-3732; Directorate Identifier 2015-NE-25-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact with FAA personnel concerning this NPRM.

Discussion

The Transport Canada Civil Aviation, which is the aviation authority for Canada, has issued Canada AD CF-2015-23, dated July 23, 2015 (referred to hereinafter as “the MCAI”), to correct an unsafe condition for the specified products. The MCAI states:

There have been in-service incidents involving corrosion and perforation of the two-ply Cu-Be bellows in Woodward Fuel Control Units (FCU) fitted to PT6A-60, -65 and -67 series engines. In certain instances, associated bellows leakage has resulted in loss of engine power, in-flight shutdowns (IFSD) and even accidents. Engines installed on the aeroplanes that are used for crop dusting, due to the operational environment, are more susceptible to corrosion damage to the subject bellows.

Loss of engine power or shut down in flight by itself usually is not considered a catastrophic event. However, on an aeroplane with single engine installation, an engine power loss or IFSD at a critical phase of flight could adversely affect the safe operation of the aeroplane.

This AD affects the PT6A-60AG, PT6A-65AG, PT6A-67AF, and PT6A-67AG engine models because they have the affected Woodward FCUs installed.

You may obtain further information by examining the MCAI in the AD docket on the Internet at http://www.regulations.gov by searching for and locating Docket No. FAA-2015-3732.

Related Service Information Under 1 CFR Part 51

PWC has issued Service Bulletin (SB) No. PT6A-72-14389, Revision 3, dated January 27, 2011 and SB No. PT6A-72-13473, Revision 1, dated May 26, 2015. The service information describes procedures for replacing Woodward FCUs. This service information is reasonably available because the interested parties have access to it through their normal course of business or by the means identified in the ADDRESSES section of this NPRM.

FAA's Determination and Requirements of This Proposed AD

This product has been approved by the aviation authority of Canada, and is approved for operation in the United States. Pursuant to our bilateral agreement with Canada, they have notified us of the unsafe condition described in the MCAI and service information referenced above. We are proposing this AD because we evaluated all information provided by Transport Canada Civil Aviation and determined the unsafe condition exists and is likely to exist or develop on other products of the same type design. This NPRM would require replacing the Woodward FCU.

Costs of Compliance

We estimate that this proposed AD affects 341 engines installed on airplanes of U.S. registry. We also estimate that it would take about 1.5 hours per engine to comply with this proposed AD. The average labor rate is $85 per hour. Required parts cost about $1,000 per engine. Based on these figures, we estimate the cost of this proposed AD on U.S. operators to be $384,478.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pratt & Whitney Canada Corp. (Type Certificate previously held by Pratt & Whitney Canada, Inc., Pratt & Whitney Aircraft of Canada, Ltd., and United Aircraft of Canada, Ltd.): Docket No. FAA-2015-3732; Directorate Identifier 2015-NE-25-AD.

(a) Comments Due Date

We must receive comments by January 11, 2016.

(b) Affected ADs

None.

(c) Applicability

This AD applies to Pratt & Whitney Canada Corp. (PWC) PT6A-60AG, BS919 and BS1048 with pre-SB No. PT6A-72-13402, dated August 12, 2005 configuration; PT6A-65AG, BS708, BS903, BS1101, and BS1102 with pre-SB PT6A-72-13408, dated July 3, 2006 configuration; PT6A-67AF; and PT6A-67AG turboprop engines with Woodward fuel control units (FCUs) installed.

(d) Reason

This AD was prompted by incidents of corrosion and perforation of the two-ply Cu-Be bellows in Woodward FCUs. We are issuing this AD to prevent failure of the Woodward FCU, which could lead to failure of the engine, in-flight shutdown, and loss of control of the airplane.

(e) Actions and Compliance

Comply with this AD within the compliance times specified, unless already done.

(1) For PWC PT6A-67AF and PT6A-67AG engines, within 500 flight hours (FHs) or one year after the effective date of this AD, whichever occurs first, replace the Woodward FCU. Use paragraphs 3.A. and 3.C. of PWC Service Bulletin (SB) No. PT6A-72-14389, Revision 3, dated January 27, 2011 to replace the FCU.

(2) For PWC PT6A-60AG BS919 and BS1048 engines with pre-SB No. PT6A-72-13402 configuration, within 36 months after the effective date of this AD, replace the Woodward FCU. Use paragraph 3.C.(1) and 3.C.(3) of PWC SB No. PT6A-72-13473, Revision 1, dated May 26, 2015 to replace the FCU.

(3) For PWC PT6A-65AG BS708, BS903, BS1101, and BS1102 engines with pre-SB PT6A-72-13408 configuration, within 36 months after the effective date of this AD, replace the Woodward FCU. Use paragraphs 3.A.(1) and 3.A.(3) of PWC SB No. PT6A-72-13473, Revision 1, dated May 26, 2015 to replace the FCU.

(f) Credit for Previous Actions

You may take credit for the actions required by paragraph (e) of this AD if you performed the actions before the effective date of this AD in accordance with PWC SB No. PT6A-72-14389, Revision 2, dated April 23, 2009; or SB No. PT6A-72-13473, dated March 12, 2015; or SB No. PT6A-72-13408, Revision 1, dated March 12, 2015; or earlier versions.

(g) Alternative Methods of Compliance (AMOCs)

The Manager, Engine Certification Office, FAA, may approve AMOCs for this AD. Use the procedures found in 14 CFR 39.19 to make your request. You may email your request to: ANE-AD-AMOC@faa.gov.

(h) Related Information

(1) For more information about this AD, contact Besian Luga, Aerospace Engineer, Engine Certification Office, FAA, Engine & Propeller Directorate, 12 New England Executive Park, Burlington, MA 01803; phone: 781-238-7750; fax: 781-238-7199; email: besian.luga@faa.gov.

(2) Refer to MCAI Transport Canada AD CF-2015-23, dated July 23, 2015, for more information. You may examine the MCAI in the AD docket on the Internet at http://www.regulations.gov by searching for and locating it in Docket No. FAA-2015-3732.

(3) PWC SB No. PT6A-72-14389, Revision 3, dated January 27, 2011 and SB No. 13473, Revision 1, dated May 26, 2015, can be obtained from PWC, using the contact information in paragraph (h)(4) of this proposed AD.

(4) For service information identified in this proposed AD, contact Pratt & Whitney Corp., 1000 Marie-Victorin, Longueuil, Quebec, Canada, J4G 1A1; phone: 800-268-8000; fax: 450-647-2888; Web site: www.pwc.ca.

(5) You may view this service information at the FAA, Engine & Propeller Directorate, 12 New England Executive Park, Burlington, MA. For information on the availability of this material at the FAA, call 781-238-7125.

Issued in Burlington, Massachusetts, on November 4, 2015.
Colleen M. D'Alessandro,
Directorate Manager, Engine & Propeller Directorate, Aircraft Certification Service.

[FR Doc. 2015-28534 Filed 11-9-15; 8:45 am]

BILLING CODE 4910-13-P